OFFICE OF PERSONNEL MANAGEMENT

Comment Request for Review of a Revised Information Collection: Customer Satisfaction Surveys

AGENCY: U.S. Office of Personnel Management.

ACTION: 30-Day notice and request for comments.

SUMMARY: The Office of Personnel Management (OPM) intends to submit to the Office of Management and Budget (OMB) a request for review of a currently approved collection, Customer Satisfaction Surveys. Approval of these surveys is necessary to collect information on Federal agency and program performance.

DATES: Comments are encouraged and will be accepted October 4, 2021.

ADDRESSES: Interested persons are invited to submit written comments on the proposed information collection to the Office of Information and Regulatory Affairs, Office of Management and Budget, 725 17th Street NW, Washington, DC 20503, Attention: Desk Officer for the Office of Personnel Management or sent via electronic mail to oira_submission@omb.eop.gov or faxed to (202) 395-6974.

FOR FURTHER INFORMATION CONTACT: A copy of this information collection request (ICR), with applicable supporting documentation, may be obtained by contacting Human Resources Strategy and Evaluation Solutions, Office of Personnel Management, 1900 E Street, RM 2469 NW, Washington, DC 20415, Attention: Coty Hoover, C/O Henry Thibodeaux, via email to Organizational_Assessment@opm.gov, or 202-606-8001.

SUPPLEMENTARY INFORMATION: As required by the Paperwork Reduction Act of 1995, (Pub. L. 104-13, 44 U.S.C. chapter 35) as amended by the Clinger-Cohen Act (Pub. L. 104-106), OPM is soliciting comments for this collection. The information collection was previously published in the Federal Register on 2/24/2021 at 86 FR 11339 allowing for a 60-day public comment period. No comments were received for this information collection (OMB No. 3206-0236). The purpose of this notice is to allow an additional 30 days for public comments. Comments are particularly invited on:

1. Whether the proposed collection of information is necessary for the proper performance of the functions of the agency, including whether the information will have practical utility;

2. Whether our estimate of the public burden of this collection is accurate, and based on valid assumptions and methodology; and

3. Ways in which we can minimize the burden of the collection of information on those who are to respond, through the use of the appropriate technological collection techniques or other forms of information technology.

OPM's Human Resources Strategy and Evaluation Solutions performs assessment and related consultation activities for Federal agencies on a reimbursable basis. The assessment is authorized by various statutes and regulations: Section 4702 of Title 5, U.S.C; E.O. 12862; E.O. 13715; Section 1128 of the National Defense Authorization Act for Fiscal Year 2004, Public Law 108-136; 5 U.S.C. 1101 note, 1103(a)(5), 1104, 1302, 3301, 3302, 4702, 7701 note; E.O. 13197, 66 FR 7853, 3 CFR 748 (2002); E.O. 10577, 12 FR 1259, 3 CFR, 1954-1958 Comp., p. 218; and Section 4703 of Title 5, United States Code.

This collection request includes surveys we currently use and plan to use during the next three years to measure agency performance in providing services to meet customer needs. These surveys consist of Likert-type, mark-one, and mark-all-that-apply items, and may include a small number of open-ended comment items. Administration of OPM's Customer Satisfaction Surveys (OMB No. 3206-0236) typically consists of approximately 20 standard items drawn from an item bank of approximately 50 items; client agencies usually add a small number of custom items to assess satisfaction with specific products and services. The survey is almost always administered electronically.

Analysis

Agency: Human Resources Strategy and Evaluation Solutions, Office of Personnel Management.

Title: Customer Satisfaction Surveys.

OMB Number: 3206-0236.

Frequency: On occasion.

Affected Public: Individuals and businesses.

Number of Respondents: approximately 240,000.

Estimated Time per Respondent: 7 minutes.

Total Burden Hours: 28,000 hours.

U.S. Office of Personnel Management.
Kellie Cosgrove Riley,
Director, Office of Privacy and Information Management.

[FR Doc. 2021-19081 Filed 9-2-21; 8:45 am]

BILLING CODE 6325-38-P